INTERNATIONAL TRADE COMMISSION

[Investigation No. 731-TA-1586 (Final)]

Sodium Nitrite From Russia; Supplemental Schedule for the Final Phase of Antidumping Duty Investigation

AGENCY: United States International Trade Commission.

ACTION: Notice.

DATES: September 12, 2022.

FOR FURTHER INFORMATION CONTACT: Peter Stebbins ((202) 205-2039), Office of Investigations, U.S. International Trade Commission, 500 E Street SW, Washington, DC 20436. Hearing-impaired persons can obtain information on this matter by contacting the Commission's TDD terminal on (202) 205-1810. Persons with mobility impairments who will need special assistance in gaining access to the Commission should contact the Office of the Secretary at (202) 205-2000. General information concerning the Commission may also be obtained by accessing its internet server (https://www.usitc.gov). The public record for these investigations may be viewed on the Commission's electronic docket (EDIS) at https://edis.usitc.gov.

SUPPLEMENTARY INFORMATION: Effective April 15, 2022, the Commission established a general schedule for the conduct of the final phase of its countervailing and antidumping duty investigations on sodium nitrite from India and Russia (87 FR 23567, April 20, 2022), following a preliminary determination by the U.S. Department of Commerce (“Commerce”) that imports of sodium nitrite from Russia were being subsidized by the government of Russia (87 FR 22504, April 15, 2022). Notice of the scheduling of the final phase of the Commission's investigations and of a public hearing to be held in connection therewith was given by posting copies of the notice in the Office of the Secretary, U.S. International Trade Commission, Washington, DC, and by publishing the notice in the Federal Register on April 20, 2022, (87 FR 23567). In light of the restrictions on access to the Commission building due to the COVID-19 pandemic, the Commission conducted its hearing through written testimony and video conference on June 21, 2022. All persons who requested the opportunity were permitted to participate.

Commerce issued a final affirmative countervailing duty determination with respect to sodium nitrite from Russia (87 FR 38375, June 28, 2022). The Commission subsequently issued its final determination that an industry in the United States was materially injured by reason of imports of sodium nitrite from Russia provided for in subheading 2834.10.10 of the Harmonized Tariff Schedule of the United States (“HTSUS”) that have been found by Commerce to be subsidized by the government of Russia (87 FR 51141, August 19, 2022).

Commerce issued a final affirmative antidumping duty determination with respect to imports of sodium nitrite from Russia (87 FR 55781, September 12, 2022). Accordingly, the Commission currently is issuing a supplemental schedule for its antidumping duty investigation on imports of sodium nitrite from Russia.

This supplemental schedule is as follows: the deadline for filing supplemental party comments on Commerce's final antidumping duty determination is September 21, 2022. Supplemental party comments may address only Commerce's final antidumping duty determination regarding imports of sodium nitrite from Russia. These supplemental final comments may not contain new factual information and may not exceed five (5) pages in length. The supplemental staff report in the final phase of the current investigation will be placed in the nonpublic record on October 7, 2022; and a public version will be issued thereafter.

For further information concerning this investigation see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

Please note the Secretary's Office will accept only electronic filings during this time. Filings must be made through the Commission's Electronic Document Information System (EDIS, https://edis.usitc.gov.) No in-person paper-based filings or paper copies of any electronic filings will be accepted until further notice.

Authority: This proceeding is being conducted under authority of title VII of the Tariff Act of 1930; this notice is published pursuant to section 207.21 of the Commission's rules.

By order of the Commission.
Issued: September 20, 2022.
Katherine Hiner,
Acting Secretary to the Commission.

[FR Doc. 2022-20691 Filed 9-22-22; 8:45 am]

BILLING CODE 7020-02-P